DEPARTMENT OF THE INTERIOR

National Park Service

[NPS-WASO-INTERP-21788; PPWOIEADC0, PPMVSIE1Y.Y00000 (166)]

Proposed Information Collection; After School Place-Based STEM Learning Partnership Evaluation Survey

AGENCY: National Park Service, Interior.

ACTION: Notice; request for comments.

SUMMARY: We (National Park Service, NPS) will ask the Office of Management and Budget (OMB) to approve the information collection (IC) described below. As required by the Paperwork Reduction Act of 1995 and as part of our continuing efforts to reduce paperwork and respondent burden, we invite the general public and other Federal agencies to take this opportunity to comment on this IC. We may not conduct or sponsor and a person is not required to respond to a collection of information unless it displays a currently valid OMB Control Number.

DATES: You must submit comments on or before December 5, 2016.

ADDRESSES: Send your comments on the IC to Madonna L. Baucum, Information Collection Clearance Officer, National Park Service, 12201 Sunrise Valley Drive (MS-242), Reston, VA 20192 (mail); or madonna_baucum@nps.gov (email). Please reference “1024-New STEM Survey” in the subject line of your comments.

FOR FURTHER INFORMATION CONTACT: To request additional information about this IC, contact Lynne Murdock, Natural Resources Interpretive Specialist, 1201 Eye Street NW., 8th Floor, #39, Washington, DC 20005 (mail); lynne_murdock@nps.gov (email), or at (202) 513-7195 (phone).

SUPPLEMENTARY INFORMATION:

I. Abstract

Under 54 U.S.C. 100101 (National Park Service Act Organic Act), we must preserve America's natural wonders unimpaired for future generations, while also making them available for the enjoyment of the visitor. The NPS' commitment to future generations includes a commitment to engaging children in science at some of the country's most beautiful and ecologically intact sites while improving the quality of STEM—or science, technology, engineering, and mathematics—instruction. The study of the After School Place-Based STEM Learning Partnership will provide insight into how STEM education programs can strengthen students' interest and engagement in STEM, develop skills and knowledge around ecological monitoring, and encourage students to see themselves as active participants in building scientific knowledge. The study is part of an interagency agreement between the U.S. Department of Education (ED) and the NPS, and a project implemented in partnership with the Bureau of Indian Education (BIE), the 21st Century Community Learning Center (CCLC), and the National Environmental Education Foundation. The study will include a student survey to assess the following outcomes:

• Confidence in the ability to participate in environmental monitoring and citizen science activities/discussions,

• Interest in pursuing or participating in classes, activities or discussions related to general STEM and/or environmental science,

• Recognition of the relevance of STEM and environmental science to students' lives and communities, and

• Interest in environmental science and/or in pursuing additional STEM-related classes, activities and/or careers.

The study sample will include students who participate in STEM education programs delivered in partnership with eight national parks and their partner schools.

II. Data

OMB Control Number: 1024—New.

Title: After School Place-Based STEM Learning Partnership Evaluation Survey.

Service Form Number(s): None.

Type of Request: New.

Description of Respondents: Students, grades K-12.

Respondent's Obligation: Voluntary

Frequency of Collection: One-time.

Activity | Number of respondents | Number of annual responses | Completion time per response | Total annual burden hours
Program Evaluation Survey—Students | 300 | 300 | 15 minutes | 75
Totals | 300 | 300 |  | 75

Estimated Annual Nonhour Burden Cost: None.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: September 29, 2016.
Madonna L. Baucum,
Information Collection Clearance Officer, National Park Service.

[FR Doc. 2016-24037 Filed 10-4-16; 8:45 am]

BILLING CODE 4310-EH-P